DEPARTMENT OF THE INTERIOR

Bureau of Land Management

[CO-921-04-1320-EL; COC 67664]

Notice of Invitation for Coal Exploration License Application, Colowyo Coal Company L.P. COC 67664; Colorado

AGENCY: Bureau of Land Management, Interior.

ACTION: Notice of invitation for coal exploration license application.

SUMMARY: Pursuant to the Mineral Leasing Act of February 25, 1920, as amended, and to Title 43, Code of Federal Regulations, Subpart 3410, members of the public are hereby invited to participate with Colowyo Coal Company L.P. in a program for the exploration of unleased coal deposits owned by the United States of America containing approximately 4,509.89 acres in Moffat County, Colorado.

DATES: Written Notice of Intent to Participate should be addressed to the attention of the following persons and must be received by June 24, 2004.

ADDRESSES: Karen Purvis, CO-921, Solid Minerals Staff, Division of Energy, Lands and Minerals, Colorado State Office, Bureau of Land Management, 2850 Youngfield Street, Lakewood, Colorado 80215; and Juan Garcia, Project Manager, Colowyo Coal Company L.P., 5731 State Highway 13, Meeker, Colorado 81641.

SUPPLEMENTARY INFORMATION: The application for coal exploration license is available for public inspection during normal business hours under serial number COC 67664 at the Bureau of Land Management, Colorado State Office, 2850 Youngfield Street, Lakewood, Colorado 80215, and at the Little Snake Field Office, 455 Emerson St., Craig, Colorado 81625. Any party electing to participate in this program must share all costs on a pro rata basis with Colowyo Coal Company L.P. and with any other party or parties who elect to participate.

Dated: April 14, 2004.
Karen Purvis,
Solid Minerals Staff, Division of Energy, Lands and Minerals.

[FR Doc. 04-11724 Filed 5-24-04; 8:45 am]

BILLING CODE 4310-JB-P